DEPARTMENT OF VETERANS AFFAIRS

[OMB Control No. 2900-0689]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to assess the quality of care provided to the returning war veterans with loss of limbs and other severe injuries.

DATES: Written comments and recommendations on the proposed collection of information should be received on or before February 5, 2007.

ADDRESSES: Submit written comments on the collection of information through http://www.Regulations.gov; or to Ann Bickoff, Veterans Health Administration (193E1), Department of Veterans Affairs, 810 Vermont Avenue, NW., Washington, DC 20420; or e-mail: ann.bickoff@va.gov. Please refer to “OMB Control No. 2900-0689” in any correspondence. During the comment period, comments may be viewed online through the Federal Docket Management System (FDMS) at http://www.Regulations.gov.

FOR FURTHER INFORMATION CONTACT: Ann W. Bickoff (202) 273-8310 or FAX (202) 273-9381.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Survey of Satisfaction of Operation Iraqi Freedom/Operation Enduring Freedom (OIF/OEF) Amputees, VA Form 10-21082(NR).

OMB Control Number: 2900-0689.

Type of Review: Extension of a currently approved collection.

Abstract: VA will use the data collected to determine whether the health care needs of amputee and severely injured veterans returning from Iraqi Freedom and Operation Enduring Freedom are being met and to identify areas where improvement is needed.

Affected Public: Individuals or households.

Estimated Annual Burden: 60 hours.

Estimated Average Burden Per Respondent: 18 minutes.

Frequency of Response: One time.

Estimated Number of Respondents: 200.

Dated: November 22, 2006.
By direction of the Secretary.
Cindy Stewart,
Program Analyst, Records Management Service.

[FR Doc. E6-20682 Filed 12-5-06; 8:45 am]

BILLING CODE 8320-01-P